DEPARTMENT OF HOMELAND SECURITY

Federal Emergency Management Agency

[Docket ID FEMA-2021-0002; Internal Agency Docket No. FEMA-B-2125]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado: Larimer. | City of Fort Collins (20-08-0643P). | The Honorable Wade Troxell, Mayor, City of Fort Collins, P.O. Box 580, Fort Collins, CO 80522. | Stormwater Utilities Department, 700 Wood Street, Fort Collins, CO 80521. | https://msc.fema.gov/portal/advanceSearch. | Jun. 25, 2021 | 080102
Florida:
Alachua. | Unincorporated areas of Alachua County (20-04-2956P). | Ms. Michele L. Lieberman, Alachua County Manager, 12 Southeast 1st Street, Gainesville, FL 32601. | Alachua County Public Works Department, 5620 Northwest 120th Lane, Gainesville, FL 32653. | https://msc.fema.gov/portal/advanceSearch. | Jul. 6, 2021 | 120001
Lake. | City of Leesburg (21-04-0344P). | The Honorable John Christian, Mayor, City of Leesburg, 501 West Meadow Street, Leesburg, FL 34748. | City Hall, 501 West Meadow Street, Leesburg, FL 34748. | https://msc.fema.gov/portal/advanceSearch. | Jul. 13, 2021 | 120136
Lake. | Unincorporated areas of Lake County (21-04-0344P). | Ms. Jo Anne Drury, Interim Lake County Manager, P.O. Box 7800, Tavares, FL 32778. | Lake County Administration Building, 315 West Main Street, Tavares, FL 32778. | https://msc.fema.gov/portal/advanceSearch. | Jul. 13, 2021 | 120421
Monroe. | Unincorporated areas of Monroe County (21-04-1027P). | The Honorable Michelle Coldiron, Mayor, Monroe County Board of Commissioners, 25 Ships Way, Big Pine Key, FL 33043. | Monroe County Building Department, 2798 Overseas Highway, Suite 300, Marathon, FL 33050. | https://msc.fema.gov/portal/advanceSearch. | Jul. 12, 2021 | 125129
Pinellas. | City of Treasure Island (21-04-0293P). | Mr. Garry Brumback, Manager, City of Treasure Island, 120 108th Avenue, Treasure Island, FL 33706. | Community Development Department, 120 108th Avenue, Treasure Island, FL 33706. | https://msc.fema.gov/portal/advanceSearch. | Jun. 28, 2021 | 125153
Georgia: Barrow. | Unincorporated areas of Barrow County (20-04-3669P). | The Honorable Pat Graham, Chair, Barrow County Board of Commissioners, 30 North Broad Street, Winder, GA 30680. | Barrow County Planning and Community Development, 30 North Broad Street, Winder, GA 30680. | https://msc.fema.gov/portal/advanceSearch. | Jul. 8, 2021 | 130497
Massachusetts: Plymouth. | Town of Marion (21-01-0018P). | The Honorable Randy L. Parker, Chairman, Town of Marion Board of Selectmen, 2 Spring Street, Marion, MA 02738. | Building Department, 2 Spring Street, Marion, MA 02738. | https://msc.fema.gov/portal/advanceSearch. | Jul. 16, 2021 | 255213
New Mexico:
Taos. | Town of Taos (21-06-0091P). | The Honorable Daniel R. Barrone, Mayor, Town of Taos, 400 Camino De La Placita, Taos, NM 87571. | Town Hall, 400 Camino De La Placita, Taos, NM 87571. | https://msc.fema.gov/portal/advanceSearch. | Jul. 23, 2021 | 350080
Taos. | Unincorporated areas of Taos County (20-06-2296P). | Mr. Brent Jaramillo, Taos County Manager, 105 Albright Street, Suite G, Taos, NM 87571. | Taos County Planning Department, 105 Albright Street, Suite G, Taos, NM 87571. | https://msc.fema.gov/portal/advanceSearch. | Jul. 16, 2021 | 350078
Taos. | Unincorporated areas of Taos County (21-06-0091P). | Mr. Brent Jaramillo, Taos County Manager, 105 Albright Street, Suite G, Taos, NM 87571. | Taos County Planning Department, 105 Albright Street, Suite G, Taos, NM 87571. | https://msc.fema.gov/portal/advanceSearch. | Jul. 23, 2021 | 350078
Pennsylvania: Columbia. | Town of Bloomsburg (20-03-1776P). | The Honorable William Kreisher, Mayor, Town of Bloomsburg, 301 East 2nd Street, Bloomsburg, PA 17815. | Town Hall, 301 East 2nd Street, Bloomsburg, PA 17815. | https://msc.fema.gov/portal/advanceSearch. | Jul. 19, 2021 | 420339
Texas:
Archer. | City of Scotland (21-06-0024P). | The Honorable Ron Hoff Mayor, City of Scotland, P.O. Box 32, Scotland, TX 76379. | City Hall, 727 Avenue L, Scotland, TX 76379. | https://msc.fema.gov/portal/advanceSearch. | Jul. 9, 2021 | 481280
Archer. | Unincorporated areas of Archer County (21-06-0024P). | The Honorable Randall C. Jackson, Archer County Judge, P.O. Box 458, Archer City, TX 76351. | Archer County Courthouse, Emergency Management Office, 100 South Center Street, Archer City, TX 76351. | https://msc.fema.gov/portal/advanceSearch. | Jul. 9, 2021 | 481078
Bexar. | City of San Antonio (20-06-3342P). | The Honorable Ron Nirenberg, Mayor, City of San Antonio, P.O. Box 839966, San Antonio, TX 78283. | Transportation and Capital Improvements Department, Stormwater Division, 114 West Commerce Street, 7th Floor, San Antonio, TX 78205. | https://msc.fema.gov/portal/advanceSearch. | Jun. 28, 2021 | 480045
Bexar. | Unincorporated areas of Bexar County (20-06-2261P). | The Honorable Nelson W. Wolff, Bexar County Judge, 101 West Nueva Street, 10th Floor, San Antonio, TX 78205. | Bexar County Public Works Department, 1948 Probandt Street, San Antonio, TX 78214. | https://msc.fema.gov/portal/advanceSearch. | Jun. 7, 2021 | 480035
Brazoria. | City of Pearland (20-06-2501P). | The Honorable Kevin Cole, Mayor, City of Pearland, 3519 Liberty Drive, Pearland, TX 77581. | Engineering Division, 3519 Liberty Drive, Pearland, TX 77581. | https://msc.fema.gov/portal/advanceSearch. | Jun. 28, 2021 | 480077
Dallas. | City of Dallas (20-06-2951P). | The Honorable Eric Johnson, Mayor, City of Dallas, 1500 Marilla Street, Suite 5EN, Dallas, TX 75201. | Floodplain Management Department, 320 East Jefferson Boulevard, Room 312, Dallas, TX 75203. | https://msc.fema.gov/portal/advanceSearch. | Jun. 7, 2021 | 480171
Denton. | City of Corinth (21-06-1194P). | The Honorable Bill Heidemann, Mayor, City of Corinth, 3300 Corinth Parkway, Corinth, TX 76208. | Engineering Department, 3300 Corinth Parkway, Corinth, TX 76208. | https://msc.fema.gov/portal/advanceSearch. | Jul. 12, 2021 | 481143
Harris. | City of Houston (20-06-3198P). | The Honorable Sylvester Turner, Mayor, City of Houston, P.O. Box 1562, Houston, TX 77251. | Floodplain Management Department, 1002 Washington Avenue, Houston, TX 77002. | https://msc.fema.gov/portal/advanceSearch. | Jun. 28, 2021 | 480296
Harris. | Unincorporated areas of Harris County (19-06-2834P). | The Honorable Lina Hidalgo, Harris County Judge, 1001 Preston Street, Suite 911, Houston, TX 77002. | Harris County Permit Office, 10555 Northwest Freeway, Suite 120, Houston, TX 77002. | https://msc.fema.gov/portal/advanceSearch. | Jun. 28, 2021 | 480287
Harris. | Unincorporated areas of Harris County (19-06-3141P). | The Honorable Lina Hidalgo, Harris County Judge, 1001 Preston Street, Suite 911, Houston, TX 77002. | Harris County Permit Office, 10555 Northwest Freeway, Suite 120, Houston, TX 77002. | https://msc.fema.gov/portal/advanceSearch. | Jul. 12, 2021 | 480287
Harris. | Unincorporated areas of Harris County (20-06-3198P). | The Honorable Lina Hidalgo, Harris County Judge, 1001 Preston Street, Suite 911, Houston, TX 77002. | Harris County Permit Office, 10555 Northwest Freeway, Suite 120, Houston, TX 77002. | https://msc.fema.gov/portal/advanceSearch. | Jun. 28, 2021 | 480287
Kaufman. | Unincorporated areas of Kaufman County (20-06-3077P). | The Honorable Hal Richards, Kaufman County Judge, 100 West Mulberry Street, Kaufman, TX 75142. | Kaufman County Courthouse, 106 West Grove Street, Kaufman, TX 75142. | https://msc.fema.gov/portal/advanceSearch. | Jul. 9, 2021 | 480411
Travis. | City of Rollingwood (20-06-2815P). | The Honorable Mike Dyson, Mayor, City of Rollingwood, 403 Nixon Drive, Rollingwood, TX 78746. | City Hall, 403 Nixon Drive, Rollingwood, TX 78746. | https://msc.fema.gov/portal/advanceSearch. | Jul. 12, 2021 | 481029
Williamson. | City of Round Rock (20-06-3569P). | The Honorable Craig Morgan, Mayor, City of Round Rock, 221 East Main Street, Round Rock, TX 78664. | Department of Utilities and Environmental Services, 3400 Sunrise Road, Round Rock, TX 78665. | https://msc.fema.gov/portal/advanceSearch. | Jul. 1, 2021 | 481048
Virginia:
Albemarle. | Unincorporated areas of Albemarle County (20-03-1246P). | Mr. Jeffrey B. Richardson, Albemarle County Executive, 401 McIntire Road, Charlottesville, VA 22902. | Albemarle County Department of Community Development, 401 McIntire Road, Charlottesville, VA 22902. | https://msc.fema.gov/portal/advanceSearch. | Jul. 13, 2021 | 510006
Albemarle. | Unincorporated areas of Albemarle County (20-03-1533P). | Mr. Jeffrey B. Richardson, Albemarle County Executive, 401 McIntire Road, Charlottesville, VA 22902. | Albemarle County Department of Community Development, 401 McIntire Road, Charlottesville, VA 22902. | https://msc.fema.gov/portal/advanceSearch. | Jun. 23, 2021 | 510006
Prince William. | Unincorporated areas of Prince William County (20-03-1200P). | The Honorable Ann B. Wheeler, Chair-At-Large, Prince William County Board of Supervisors, 1 County Complex Court, Prince William, VA 22192. | Prince William County Department of Public Works, 5 County Complex Court, Prince William, VA 22192. | https://msc.fema.gov/portal/advanceSearch. | Jun. 17, 2021 | 510119

[FR Doc. 2021-08695 Filed 4-26-21; 8:45 am]

BILLING CODE 9110-12-P